SURFACE TRANSPORTATION BOARD

[Docket No. FD 36608]

Hamilton Hartford Group, LLC—Continuance in Control Exemption—Hamilton Northwestern Railroad Co.

Hamilton Hartford Group, LLC (HHG), a noncarrier, filed a verified notice of exemption under 49 CFR 1180.2(d)(2) to continue in control of Hamilton Northwestern Railroad Co. (HNW), a noncarrier controlled by HHG, upon HNW's becoming a Class III rail carrier.¹

¹ HHG filed its verified notice of exemption on April 6, 2022, and on April 22, 2022, HHG filed a supplement clarifying the specific authority that HNW is seeking in Docket No. FD 36607. In light of the supplement, April 22, 2022, is deemed the filing date of the verified notice.

This notice of exemption is related to a concurrently filed notice of exemption in Hamilton Northwestern Railroad—Acquisition & Operation Exemption—in Allegan County, Mich., Docket No. FD 36607, in which HNW seeks to acquire and operate approximately 6.10 miles of track in Allegan County, Mich.

According to the verified notice of exemption, HHG controls one railroad, the West Michigan Railroad Co. (WMI), which operates in Michigan.

HHG represents that: (1) The line which HNW seeks authority to acquire and operate over does not connect with the lines of any existing rail carriers controlled by HHG; (2) the proposed transaction is not part of a series of anticipated transactions that would connect the line with any other railroads in the HHG corporate family; and (3) the transaction does not involve a Class I rail carrier. Therefore, the proposed transaction is exempt from the prior approval requirements of 49 U.S.C. 11323. See 49 CFR 1180.2(d)(2).

HHG has also filed a petition for waiver of 49 CFR 1180.4(g)(1), which states that a notice of exemption must be filed at least 30 days before a transaction is consummated. HHG asks the Board to waive that provision and allow this notice to become effective by May 6, 2022, to minimize the risk of disruption of rail service on the Line. HHG's request will be addressed in a separate decision, in which the Board will establish the effective date of the exemption.

Under 49 U.S.C. 10502(g), the Board may not use its exemption authority to relieve a rail carrier of its statutory obligation to protect the interests of its employees. However, 49 U.S.C. 11326(c) does not provide for labor protection for transactions under 49 U.S.C. 11324 and 11325 that involve only Class III rail carriers. Because this transaction involves Class III rail carriers only, the Board, under the statute, may not impose labor protective conditions for this transaction.

If the verified notice contains false or misleading information, the exemption is void ab initio. Petitions to revoke the exemption under 49 U.S.C. 10502(d) may be filed at any time. The filing of a petition to revoke will not automatically stay the effectiveness of the exemption. Petitions to stay must be filed no later than May 13, 2022 (at least seven days before the exemption becomes effective).

All pleadings, referring to Docket No. FD 36608, must be filed with the Surface Transportation Board either via e-filing on the Board's website or in writing addressed to 395 E Street SW, Washington, DC 20423-0001. In addition, a copy of each pleading must be served on HHG's representative, Robert A. Wimbish, Fletcher & Sippel LLC, 29 North Wacker Drive, Suite 800, Chicago, IL 60606-3208.

According to HHG, this action is categorically excluded from environmental review under 49 CFR 1105.6(c) and from historic preservation reporting requirements under 49 CFR 1105.8(b).

Board decisions and notices are available at www.stb.gov.

Decided: May 3, 2022.
By the Board, Valerie O. Quinn, Acting Director, Office of Proceedings.
Regena Smith-Bernard,
Clearance Clerk.

[FR Doc. 2022-09774 Filed 5-5-22; 8:45 am]

BILLING CODE 4915-01-P